DEPARTMENT OF COMMERCE

International Trade Administration

[A-570-970]

Multilayered Wood Flooring from the People's Republic of China: Initiation of Antidumping Duty New Shipper Review

AGENCY: Enforcement & Compliance, formerly Import Administration, International Trade Administration, Department of Commerce

DATES: Effective Date: January 31, 2014.

SUMMARY: The Department of Commerce (“Department”) has determined that a request for a new shipper review of the antidumping duty order on multilayered wood flooring from the People's Republic of China (“PRC”) meets the statutory and regulatory requirements for initiation. The period of review (“POR”) for the new shipper review is December 1, 2012, through November 30, 2013.

FOR FURTHER INFORMATION CONTACT: Maisha Cryor, AD/CVD Operations, Office IV, Enforcement & Compliance, International Trade Administration, U.S. Department of Commerce, 14th Street and Constitution Avenue NW., Washington, DC 20230; telephone: (202) 482-5831.

SUPPLEMENTARY INFORMATION:

Background

The Department published the antidumping duty order on multilayered wood flooring from the PRC on December 8, 2011.¹ On December 20, 2013, pursuant to section 751(a)(2)(B)(i) of the Tariff Act of 1930, as amended (the “Act”), and 19 CFR 351.214(c), the Department received a timely request for a new shipper review from Linyi Anying Wood Co., Ltd., (“Anying”).² In order to confirm certain information in Anying's request, we requested entry documents from U.S. Customs and Border Protection (“CBP”).³ The continuation of the new shipper review will be contingent upon confirmation of the information received in response to that request. Additionally, on January 15, 2014, the Department received entry data from CBP.⁴

¹ See Multilayered Wood Flooring from the People's Republic of China: Amended Final Determination of Sales at Less Than Fair Value and Antidumping Duty Order, 76 FR 76690 (December 8, 2011) (“Order”).

² See Letter from Anying to the Secretary of Commerce “Multilayered Wood Flooring from China,” dated December 20, 2013 (“Initiation Request”).

³ See Memorandum to Michael Walsh, Director, AD/CVD/Revenue Policy & Programs, Office of International Trade, U.S. Customs and Border Protection, from Abdelali Elouaradia, Director Office IV, AD/CVD Operations, Enforcement and Compliance, “Multilayered Wood Flooring from the People's Republic of China (A-570-970),” dated January 7, 2014.

⁴ See Letter from Robert Bolling, Program Manager, AD/CVD Operations, Office IV to All Interested Parties “Multilayered Wood Flooring from the People's Republic of China 12/01/2012-11/30/2013,” dated concurrently with this notice.

Anying stated that it is both the producer and the exporter of the subject merchandise upon which its request for a new shipper review is based.⁵ Pursuant to section 751(a)(2)(B)(i)(I) of the Act and 19 CFR 351.214(b)(2)(i), Anying certified that it did not export multilayered wood flooring to the United States during the period of investigation (“POI”).⁶ In addition, pursuant to section 751(a)(2)(B)(i)(II) of the Act and 19 CFR 351.214(b)(2)(iii)(A), Anying certified that, since the initiation of the investigation, it has never been affiliated with any exporter or producer that exported multilayered wood flooring to the United States during the POI, including those not individually examined during the investigation.⁷ As required by 19 CFR 351.214(b)(2)(iii)(B), Anying also certified that its export activities were not controlled by the central government of the PRC.⁸

⁵ See Initiation Request at Exhibit 1.

⁶ Id.

⁷ Id.

⁸ Id.

In addition to the certifications described above, pursuant to 19 CFR 351.214(b)(2)(iv), Anying submitted documentation establishing the following: (1) The date on which it first shipped multilayered wood flooring for export to the United States and the date on which the multilayered wood flooring was first entered, or withdrawn from warehouse, for consumption; (2) the volume of its first shipment; and (3) the date of its first sale to an unaffiliated customer in the United States.⁹

⁹ Id. at 2.

The Department conducted a CBP database query and confirmed that Anying's shipment of subject merchandise entered the United States for consumption and that liquidation of such entries has been properly suspended for antidumping duties. Pursuant to 19 CFR 351.221(c)(1)(i), the Department will publish the notice of initiation of a new shipper review no later than the last day of the month following the anniversary month or semiannual anniversary month of the order.

Initiation of New Shipper Review

Pursuant to section 751(a)(2)(B) of the Act, 19 CFR 351.214(b), and based on the information on the record, the Department finds that Anying meets the threshold requirements for initiation of a new shipper review of its shipment of multilayered wood flooring from the PRC.¹⁰ However, if the information supplied by Anying is later found to be incorrect or insufficient during the course of this proceeding, the Department may rescind the review or apply adverse facts available pursuant to section 776 of the Act, depending upon the facts on record. The POR for the new shipper review of Anying is December 1, 2012, through November 30, 2013.¹¹ The Department intends to issue the preliminary results of this review no later than 180 days from the date of initiation, and the final results of this review no later than 90 days after the date the preliminary results are issued.¹²

¹⁰ See, generally, Memorandum to the File through Abdelali Elouaradia, Director, AD/CVD Operations, Office IV “Initiation of Antidumping New Shipper Review of Multilayered Wood Flooring from the People's Republic of China: Linyi Anying Wood Co., Ltd., Initiation Checklist,” dated concurrently with this notice (“Initiation Checklist”).

¹¹ See 19 CFR 351.214(g)(1)(i)(A).

¹² See section 751(a)(2)(B)(iv) of the Act.

It is the Department's usual practice, in cases involving non-market economies, to require that a company seeking to establish eligibility for an antidumping duty rate separate from the country-wide rate provide evidence of de jure and de facto absence of government control over the company's export activities. Accordingly, the Department will issue a questionnaire to Anying which will include a section requesting information with regard to its export activities for separate rates purposes. The review of Anying will proceed if the response provides sufficient indication that Anying is not subject to either de jure or de facto government control with respect to its exports of subject merchandise.

The Department will instruct CBP to allow, at the option of the importer, the posting, until the completion of the review, of a bond or security in lieu of a cash deposit for entries of subject merchandise from Anying in accordance with section 751(a)(2)(B)(iii) of the Act and 19 CFR 351.214(e). Because Anying certified that it produced and exported the subject merchandise, the Department will apply the bonding privilege only for subject merchandise that the respondent both produced and exported.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: January 24, 2014.
Christian Marsh,
Deputy Assistant Secretary for Antidumping and Countervailing Duty Operations.

[FR Doc. 2014-02066 Filed 1-30-14; 8:45 am]

BILLING CODE 3510-DS-P